DEPARTMENT OF TRANSPORTATION

Federal Aviation Administration

[Docket No. FAA-2006-24508]

Final General Conformity Determination for Proposed Operations of Southwest Airlines Co. at Denver International Airport, Denver, CO

AGENCY: Federal Aviation Administration (FAA), Department of Transportation (DOT).

ACTION: Notice of Availability of Final General Conformity Determination.

SUMMARY: Pursuant to Section 176(c) of the Clean Air Act Amendments of 1990, the FAA announces the availability of the Final General Conformity Determination for Operations of Southwest Airlines Co. (Southwest) at Denver International Airport (DEN). FAA has determined that emissions from Southwest's operations at DEN conform to the Colorado State Implementation Plan (SIP).

In accordance with the requirements of 40 CFR 93.156 (b), the Draft Conformity Determination, Proposed Operations of Southwest Airlines Co. at Denver International Airport, Denver, CO was made available for public review beginning April 21, 2006. Notice of the draft determination was published in the Rocky Mountain News, Denver, Colorado on April 21, 2006, and copies of the draft determination were made available at DEN. The Notice of Draft General Conformity Determination was published in the Federal 1Register on April 27, 2006 (71 FR 24903).

No comments were submitted during the public comment period, which ended on May 30, 2006. Consequently, the Final General Conformity Determination consists of the Draft General Conformity Determination, with the following typographical corrections. The corrections are needed to clarify terms describing aircraft operations and to correct the reference to the maximum foreseeable aircraft activity used to predict aircraft emissions, as documented in Table 1.

1. Page 24903, last sentence on this page under SUPPLEMENTARY INFORMATION shall be revised to read: “At that time Southwest indicated an interest in increasing service to as many as 50 or 60 daily landing/take-off cycles (LTOs) at DEN, but agreed to maintain * * *”

2. Page 24904, second sentence of the last paragraph under SUPPLEMENTARY INFORMATION shall be revised to read: “This General Conformity Determination addresses FAA's proposed Federal action to amend Southwest's operation specifications (OpSpecs) to accommodate future aircraft activity as high as 60 daily LTOs at DEN * * *”

3. Page 24904, fourth sentence of the 1st paragraph under Aircraft and Supporting Equipment Emissions shall be revised to read: “Under the Proposed Action scenario, aircraft emissions were quantified based on this maximum foreseeable level and conservatively assumed to occur every day of the year for a total of 21,900 LTOs per year.”

Note: The above corrections do not impact the analysis or the results. This Notice of Availability of this Final General Conformity determination will also be published in the Rocky Mountain News, Denver, Colorado. Also, the Final Conformity Determination will be available at DEN.

FOR TECHNICAL INFORMATION CONTACT: Ms. Joan Seward, All Weather Operations Program Manager, ASW-230.1, FAA SW Region Headquarters, 2601 Meacham Blvd., Fort Worth, TX 76137, telephone (817) 222-5278, e-mail: Joan.M.Seward@faa.gov.

Issued in Washington, DC, on June 26, 2006.
John M. Allen,
Acting Director, Flight Standards Service.

[FR Doc. 06-5888 Filed 6-29-06; 8:45 am]

BILLING CODE 4910-13-P